DEPARTMENT OF JUSTICE

Bureau of Alcohol, Tobacco, Firearms and Explosives

[Docket No. ATF 2016R-11]

International Trade Data System Test—Voluntary Export Pilot Project

AGENCY: Bureau of Alcohol, Tobacco, Firearms and Explosives, Department of Justice.

ACTION: Notice.

SUMMARY: Along with other agencies, the Bureau of Alcohol, Tobacco, Firearms and Explosives (ATF) will participate in a U.S. Customs and Border Protection (CBP) pilot test of the International Trade Data System (ITDS), using electronic processing of export data through the Automated Export System (AES) which is accessed within CBP's Automated Commercial Environment (ACE). ACE, the primary system through which exporters transmit export data for the clearance of cargo, automates manual processes, eliminates paper, and helps exporters efficiently comply with laws and regulations. Exporters of National Firearms Act (NFA) firearms, which include machineguns, silencers and destructive devices, may use the ACE portal, to submit data via the AESDirect system. Participation in the pilot test is voluntary.

The pilot test will allow participating exporters to submit forms, such as the ATF Form 9, Application and Permit for Permanent Exportation of Firearms, and information to CBP electronically to obtain CBP certification of exportation. CBP will validate that information, and electronically transmit export information to agencies (including ATF) to satisfy CBP's certification requirements. The pilot test seeks to streamline this part of the export process. Information on ATF's rules and regulations, and answers to commonly asked questions, can be found on the agency's Web site: http://www.atf.gov.

DATES: Interested exporters of NFA firearms, which include machineguns, silencers and destructive devices, may participate in the pilot test throughout the duration of the pilot. This pilot will begin upon publication of this notice, and will continue until concluded by publication of a notice ending it. Interested parties with ATF questions should contact Gary Schaible, whose contact information is found below.

FOR FURTHER INFORMATION CONTACT: Gary Schaible, Industry Liaison Analyst, Firearms and Explosives Services Division, Office of Enforcement Programs and Services; Bureau of Alcohol, Tobacco, Firearms and Explosives; U.S. Department of Justice; 99 New York Avenue NE., Room 6N521, Washington, DC 20226; telephone: (202) 648-7165; email Exports-HelpDesk@atf.gov. For technical questions regarding ACE or the AES data transmission, please contact your assigned CBP client representative. Interested parties without an assigned client representative should submit an email to Steven Zaccaro at steven.j.zaccaro@cbp.dhs.gov.

SUPPLEMENTARY INFORMATION: In compliance with Executive Order 13659, Streamlining the Export/Import Process for America's Businesses (79 FR 10657, Feb. 25, 2014), ATF intends to join CBP's pilot test upon publication of this notice. ATF encourages the voluntary participation of U.S. exporters of NFA firearms, which include machineguns, silencers and destructive devices. The NFA (Title 26, United States Code, Chapter 53) and the implementing regulations in Title 27, Code of Federal Regulations, Part 479 require any person desiring to export a firearm without payment of transfer tax to apply for a permit (ATF Form 9, Application and Permit for Permanent Exportation of Firearms). The approval provides for deferment of tax liability. The exporter is then required to furnish to ATF evidence of the exportation of the firearm(s) within a six-month's period of the date of issuance of the permit to relieve the tax liability. A satisfactory means of documentation of exportation is for CBP to execute the certificate of exportation (Part 3 of Form 9) and send a copy of the executed certificate to ATF. This pilot program will allow CBP to transmit the certificate to ATF electronically rather than by mail. The exporter will continue to apply on Form 9 for the permit.

Exporters who wish to participate in this pilot test must have an ACE Portal Account to be able to file the relevant data electronically via AES Direct. Information regarding an ACE Portal Account can be found at https://www.cbp.gov/trade/automated/getting-started/using-ace-secure-data-portal. Additional information is available at https://www.cbp.gov/trade/automated/getting-started.

ATF data elements include ATF Category Code, Federal Firearms License (FFL) Number, FFL Exemption Code, Control Number, Control Number Exemption Code, Quantity, and Optional Description Field. CBP will validate that information, and electronically transmit CBPs certification of exportation to ATF. Regarding appropriate data elements, CBP stipulates that “Electronic Export Information” is the electronic export data as filed in the Automated Export System (AES). This data is the electronic equivalent of the export data formerly collected as Shipper's Export Declaration (SED) information. For additional information, ATF refers exporters to CBP's AES Technical Information page at https://www.cbp.gov/trade/aes.

All data submitted and entered into ACE is subject to the Trade Secrets Act (18 U.S.C. 1905) and is considered confidential, except to the extent as otherwise provided by law. As stated in previous notices, however, the submitter's participation in this or any of the previous ACE tests is not confidential and upon a written Freedom of Information Act request, the name(s) of an approved participant(s) will be disclosed by CBP in accordance with 5 U.S.C. 552.

This pilot test will begin upon publication of this notice, and will continue until concluded by publication of a notice ending it.

Approved: October 5, 2016.
Thomas E. Brandon,
Deputy Director.

[FR Doc. 2016-24639 Filed 10-11-16; 8:45 am]

BILLING CODE 4410-FY-P